ENVIRONMENTAL PROTECTION AGENCY

40 CFR Part 52

[EPA-R04-OAR-2007-1186-200821(w); FRL-8900-4]

Approval and Promulgation of Implementation Plans; Kentucky; Section 110(a)(1) Maintenance Plans for the 1997 8-Hour Ozone Standard for the Huntington-Ashland Area, Lexington Area and Edmonson County; Withdrawal of Direct Final Rule

AGENCY: Environmental Protection Agency (EPA).

ACTION: Withdrawal of direct final rule.

SUMMARY: Due to an adverse comment, EPA is withdrawing the direct final rule, published March 25, 2009, approving a revision to the State Implementation Plan (SIP) of the Commonwealth of Kentucky. This revision was provided in accordance with Kentucky's obligations to meet the statutory and regulatory requirements related to the 1997 8-hour ozone standard and section 110(a)(1) of the Clean Air Act for the Huntington-Ashland Area, Lexington Area and Edmonson County. As stated in the direct final rule, if EPA received an adverse comment by April 24, 2009, the rule would be withdrawn and not take effect. EPA subsequently received an adverse comment on April 17, 2009. EPA will address the comment in a subsequent final action based upon the proposed action also published on March 25, 2009. EPA will not institute a second comment period on this action.

DATES: The direct final rule published March 25, 2009, at 74 FR 12567, is withdrawn effective May 5, 2009.

FOR FURTHER INFORMATION CONTACT: Ms. Lynorae Benjamin, Chief, Regulatory Development Section, Air Planning Branch, Air, Pesticides and Toxics Management Division, U.S. Environmental Protection Agency, Region 4, 61 Forsyth Street, SW., Atlanta, Georgia 30303-8960. The telephone number is (404) 562-9040. Ms. Benjamin can also be reached via electronic mail at benjamin.lynorae@epa.gov.

List of Subjects in 40 CFR Part 52

Environmental protection, Air pollution control, Incorporation by reference, Nitrogen dioxide, Ozone, Particulate matter, Reporting and recordkeeping requirements, Volatile organic compounds.

Dated: April 24, 2009.
Beverly H. Banister,
Acting Regional Administrator, Region 4.

Accordingly, the amendments to 40 CFR 52.920 (which were published in the Federal Register on March 25, 2009, at 74 FR 12567) are withdrawn effective May 5, 2009.

[FR Doc. E9-10333 Filed 5-4-09; 8:45 am]

BILLING CODE 6560-50-P